DEPARTMENT OF THE INTERIOR

Fish and Wildlife Service

Procedures for Selecting and Funding Multistate Conservation Grants Under the Federal Aid in Sport Fish and Wildlife Restoration Programs

AGENCY: Fish and Wildlife Service, Interior.

ACTION: Notice.

SUMMARY: The Service is announcing procedures for obtaining funding for multistate conservation project grants (Catalog of Federal Domestic Assistance Number 15.628) for FY 2002. Up to $3,043,255 is available for these grants in Wildlife Restoration funds and up to $3,265,392 in Sport Fish Restoration funds.

DATES: Grant application materials must be received by the International Association of Fish and Wildlife Agencies (IAFWA) by June 15, 2001.

ADDRESSES: Grant application materials may be mailed or e-mailed to: Mr. Robert L. Miles, International Association of Fish and Wildlife Agencies, 444 N. Capitol Street NW., Suite 544, Washington, DC 20001; phone, (202) 624-7890; e-mail, rmiles@sso.org.

FOR FURTHER INFORMATION CONTACT: Regarding a specific grant: Mr. Robert L. Miles, International Association of Fish and Wildlife Agencies; phone, (202) 624-7890; e-mail, rmiles@sso.org.

Regarding the Multistate Conservation Grant Program: Mr. Kris E. LaMontagne, Chief, Division of Federal Aid, U.S. Fish and Wildlife Service; phone, (703) 358-2156; e-mail, kris_e_lamontagne@fws.gov.

SUPPLEMENTARY INFORMATION: The Service publishes a Notice in the Federal Register each year announcing the deadline for project proposals, the amount of money available for multistate conservation project grants, and the National Conservation Needs. National Conservation Needs are established annually to promote and encourage efforts that address priority needs of State fish and wildlife agencies.

National Conservation Needs contained in this Notice were developed by the IAFWA through a committee consisting of heads of State fish and wildlife agencies (or their designees). The committee developed the National Conservation Needs in consultation with nongovernmental organizations that represent conservation organizations, sportsmen's organizations, and industries that support or promote sport fishing, hunting, trapping, recreational shooting, bow hunting, or archery. National Conservation Needs are provided as a guide so that applicants will know the types of projects that will likely be funded.

Eligible grantees are a State or group of States; the Service, or a State or group of States, for the purpose of carrying out the National Survey of Fishing, Hunting, and Wildlife-Associated Recreation; or nongovernmental organizations, subject to the following restrictions. Nongovernmental organizations that apply for a grant must submit with the application to the IAFWA a certification that the organization will not use grant funds to fund, in whole or in part, any activity that promotes or encourages opposition to the regulated hunting or trapping of wildlife, or the regulated taking of fish.

The Department of the Interior has promulgated rules (43 CFR part 12) adopting common rules developed by the Office of Management and Budget (OMB) as required by OMB Circulars A-102 and A-110 that contain administrative requirements that apply to these grants. This annual grant program contains information collection requirements for which approval by the OMB under the Paperwork Reduction Act of 1995, as specified in 43 CFR part 12.4, has been obtained (OMB control number 1018-0109, expires January 31, 2004, and 1018-0049, expires September 30, 2003). The Application for Federal Assistance (the Standard Form 424 series) prescribed by OMB Circulars A-102 and A-110 and required as part of this application process have the OMB control number 0348-0043.

A. Purpose

This statement establishes procedures for selecting multistate conservation project proposals to be funded through the Federal Aid in Sport Fish and Wildlife Restoration Programs for the purpose of promoting and encouraging efforts that address priority needs of State fish and wildlife agencies. These projects are funded through grants to a State or group of States; the Service, or a State or group of States, for the purpose of carrying out the National Survey of Fishing, Hunting, and Wildlife-Associated Recreation; or nongovernmental organizations.

B. Background

The mission of the Multistate Conservation Grant Program is to strengthen the ability of State and Territorial fish and wildlife agencies to meet effectively the consumptive and nonconsumptive needs of the public for fish and wildlife resources. The Federal Aid in Sport Fish Restoration Act and the Federal Aid in Wildlife Restoration Act as amended by the Wildlife and Sport Fish Restoration Programs Improvement Act of 2000 (Pub. L. 106-408) authorize the Secretary of the Interior to make not more than $6,000,000 available annually under the Federal Aid Program for the purpose of funding multistate conservation project grants.

C. Availability of Funds

In Fiscal Year 2002, the amount of funds estimated to be available for multistate conservation project grants is $6,308,647 through the Federal Aid in Sport Fish and Wildlife Restoration Programs. This figure includes $308,647 unobligated funds carried over from Fiscal Year 2001.

D. Period of Availability

Amounts made available under this Program for multistate conservation project grants will remain available for making grants only for the first fiscal year for which the amount is made available and the following fiscal year (available for obligation for two fiscal years).

E. Eligible Grantees

A multistate conservation project grant may be made only to:

1. A State or group of States;

2. The Service, or a State or group of States, for the purpose of carrying out the National Survey of Fishing, Hunting, and Wildlife-Associated Recreation; or

3. Nongovernmental organizations, subject to the following restrictions. A nongovernmental organization that applies for a grant must submit with the application to the IAFWA a certification that the organization will not use grant funds to fund, in whole or in part, any activity that promotes or encourages opposition to the regulated hunting or trapping of wildlife or the regulated taking of fish.

F. Eligible Projects

A project is not eligible for a grant unless the project will benefit:

1. At least 26 States;

2. A majority of the States in a Region of the Service; or

3. A regional association of State fish and wildlife departments.

G. Application Process

1. All grant application materials for Multistate Conservation Grant Program funding must be mailed or e-mailed to: Mr. Robert L. Miles, International Association of Fish and Wildlife Agencies, 444 N. Capitol Street NW., Suite 544, Washington, DC 20001; phone, (202) 624-7890; fax, (202) 624-7890; e-mail, rmiles@sso.org. See guidance below for electronic submission of proposals.

2. Each year, a Notice will be published in the Federal Register announcing the deadline for submitting grant application materials (see Appendix A, Calendar of Events). The Notice will also announce total funds available for multistate conservation project grants.

H. Submission Requirements

To submit a project proposal through the mail, an original hard copy and a floppy disk that contains the narrative portion of the proposal (excluding required forms) must be submitted to Mr. Robert L. Miles, International Association of Fish and Wildlife Agencies, 444 N. Capitol Street NW., Suite 544, Washington, DC 20001; phone, (202) 624-7890. In addition, hard copies of the Application for Federal Assistance (Standard Form 424 series) must also be submitted.

Electronic submission via e-mail of the narrative portion of project proposals is encouraged and should be addressed to rmiles@sso.org. Applicants who submit proposals using e-mail are required to submit hard copies of the Application for Federal Assistance (Standard Form 424 series) to the above address or fax them to (202) 624-7890, Attention: Mr. Robert L. Miles.

The following forms and format for proposals are required. Applicants are strongly encouraged to limit the narrative portion of proposals to 10 pages or less.

1. Application for Federal Assistance—Standard Form 424 as prescribed by Office of Management and Budget Circular A-110, OMB Circular A-102, and the common rule (Uniform Administrative Requirements for Grants and Cooperative Agreements to States and Local Governments and Uniform Administrative Requirements for Grants and Cooperative Agreements With Institutions of Higher Education, Hospitals, and Other Non-Profit Organizations). The SF 424 consists of a coversheet, the SF 424A consists of a budget sheet, and the SF 424B consists of compliance assurances. These forms may be obtained electronically by going to http://fa.r9.fws.gov and clicking on “FA Toolkit in PDF Format”, then clicking on “Forms”. Proposals received without these forms will not be accepted.

2. Title—A short descriptive name of the proposal.

3. Objective—What will this proposal do? State a concise statement of the purpose of the proposal in quantified terms where possible.

4. Need—Why address this problem?

a. State any National Conservation Need that the proposal addresses in whole or in part.

b. Describe the number of States affected by the proposal or the regional association of State fish and wildlife departments and how they will benefit.

c. Give a brief status report on the history of previous work conducted by the proposer or others to address this need.

5. Expected Results or Benefits—What will be gained by funding this proposal? Describe the significance of accomplishing the proposal. Describe provisions for making the product or results available and usable to those affected by the problem or need. Benefits should be expressed in quantified terms, i.e., angler days, harvest per unit effort, improvements to State administration, dollars saved, etc. If the proposal relates to the accomplishment of all or part of a National Conservation Need, state how.

6. Approach—How will the proposed project be conducted? Describe how the work will be conducted including a description of techniques and methods to be used, milestones, and a schedule of accomplishments.

7. Resumes—What are the qualifications of key personnel? Include resumes and names of key individuals who will be involved in the project, stating their particular qualifications for undertaking the project.

8. Project Costs—Submit a completed SF 424A, Budget Information—Non-Construction Programs. Multi-year proposals must include an itemized budget showing funds required for each 12-month period. With the exception of the National Survey of Fishing, Hunting and Wildlife-Associated Recreation, a project can be funded for a period of not more than three years.

I. National Conservation Needs Determination Process

National Conservation Needs are developed by State fish and wildlife agencies, acting through the committees of the IAFWA and must satisfy all the following:

1. Identifies a problem that restricts the ability of State and Territorial fish and wildlife agencies to effectively meet the needs of the public for fish and wildlife resources;

2. Impacts the fish and wildlife resources or fish and wildlife programs of at least 26 States; a majority of the States in a Region of the Service; or a regional association of State fish and wildlife departments;

3. Is an obvious, continuous, and pressing resource management problem, or a recently identified problem that is significant and urgent;

4. Can be met by a practical and economically feasible management approach that will result in improved resource management or environmental quality;

5. Could not practically be addressed by a single State or small group of States; and

6. Represents a need that is not being fully addressed by a current project.

J. National Conservation Needs for Fiscal Year 2002

State fish and wildlife agencies, acting through the committees of the IAFWA, developed the following eight National Conservation Needs for this grant period.

1. National Enhancement of Wildlife Health Services to Wildlife Managers

The capability to deliver wildlife health-related services is not uniform throughout the United States. Information on wildlife health issues is vital to the development and defense of sound management programs and policies for wildlife. Natural resources agencies must pursue ways to have greater health management expertise available within the wildlife management profession. Methods and programs to enhance delivery of wildlife health services to wildlife managers and wildlife management agencies need to be developed and facilitated.

2. Development and Implementation of Strategies and Programs That Integrate a Sound Marketing and Communications Approach

Current and projected demographic changes within the United States population are, and will continue to have significant impacts on program planning, funding strategies and policy development decisions of state fish and wildlife agencies. These agencies need the information, tools and training necessary to enhance the participation of traditional and non-traditional/under-represented constituencies in wildlife management and wildlife associated recreation. In addition to these basic tools, there is a national need to better understand the processes of retention and recruitment in wildlife associated recreation. State fish and wildlife agencies also need up-to-date information on the various approaches that other States are using to address this need and their degree of success.

3. Approval of Aquaculture Drugs and Chemicals

There is an urgent need for approval of a wide range of drugs and chemicals for use in aquaculture. Thirty-eight states have joined in a cooperative project with the U.S. Geological Service, U.S. Fish and Wildlife Service and the Department of Agriculture to conduct the studies needed to gain approval for eight important drugs for use in disease prevention and treatment of a wide variety of fish species. While much progress has been made, additional studies are needed to generate efficacy and other data required for the approval of all eight drugs and completion of the cooperative project.

4. Programs That Enhance and Improve the Ability of State Fish and Wildlife Agencies To Administer Their Agency and Manage the Wildlife Resources of Their State

Over the years, several projects have evolved that have provided State fish and wildlife agencies with information, expertise, employee training, agency and program evaluations, reference services, etc. Examples are the National Survey of Fishing, Hunting and Wildlife Associated Recreation, the Management Assistance Team, and the Library Reference Service. These projects have provided State fish and wildlife agencies with information and assistance at a reduced cost that they would have had difficulty obtaining on their own. A need exists for similar types of projects that improve the ability of State fish and wildlife agencies to administer their agencies and carry out their mandated responsibilities more effectively and efficiently.

5. Wildlife Habitat Management on Conservation Reserve Program Lands

When the Conservation Reserve Program (CRP) was reauthorized as part of the 1996 Farm Bill, the enhancement of wildlife resources became a co-equal program objective, along with reduced soil erosion and improved water quality. CRP uses the Environmental Benefits Index (EBI) to determine lands accepted into the Program. Wildlife habitat values, including maintenance of plant species diversity, are an important factor in calculation of EBI scores. However, maintenance of plant species diversity requires frequent disturbance of the grass stand, often using tools such as burning and discing instead of more traditional mowing.

Specific information is needed on how vegetative structure and plant species diversity and habitat values (insect population, brood value, etc.) change over time on CRP lands, the relationships among habitat quality and disturbance type, the frequency and type of disturbance needed, and the identification of those native legumes and native cool-season grasses which will achieve the desired habitat conditions of a better simulated native grassland system.

6. Programs That Support Hunter, Trapper and Shooting Sports Recruitment

The percentage of the general population that hunts and traps has shown a general decline over the past decade. Reversing this decline will strengthen state fish and wildlife agencies by broadening public and financial support for conservation programs. Programs are needed at both the state and national level that will lead to the reversal of this trend and result in increased hunting, trapping and shooting sports participation, with priority going to those programs that increase funding support for state agencies.

7. Integrated Bird Conservation

The challenges, significance, and conservation opportunities associated with “integrated bird conservation” are becoming increasingly apparent and remain a top priority of the State fish and wildlife agencies. The need for coordination and implementation of such national and international efforts including the North American Waterfowl Management Plan, US Shorebird Conservation Plan, Partners in Flight Plan, North American Waterbird Conservation Plan, as well as interest in resident game birds is great. State fish and wildlife agencies, and their partners need assistance in addressing the challenges associated with integrated bird conservation and accelerating implementation of such programs. Projects are needed that will create greater conservation efficiencies, address the concerns and desires of the various bird related groups, lead to more effective conservation actions implemented within a landscape context, better and more directly address the diverse array of bird conservation priorities, address integration of resident wildlife conservation actions with those of migratory birds at the State level, and foster partnerships at all levels.

8. Multistate Planning Efforts To Address Conservation Needs of Species at Risk

Assistance is needed for facilitating multi-state and more localized planning efforts to develop conservation agreements for species of concern that address the species life needs and habitat requirements prior to their designation as candidate species or subsequent listing under the Federal Endangered Species Act.

K. Project Proposal Review and Selection Process

1. Project proposals will be evaluated for eligibility as defined in Section F and ranked by appropriate committees of the IAFWA at their annual September meeting. The National Grants Committee appointed by the President of the IAFWA will review the Committees' evaluations and rankings and prepare a recommended priority list of project proposals for submission to the IAFWA's Annual Business Meeting.

2. The Directors of the State fish and wildlife agencies will approve a priority list of project proposals for funding at the IAFWA's Annual Business Meeting.

3. In preparing this list, the IAFWA will consult with nongovernmental organizations that represent conservation organizations, sportsmen's organizations, and industries that support or promote sport fishing, hunting, trapping, recreational shooting, bow hunting, or archery.

4. The IAFWA will submit the priority list of projects to the Services' Assistant Director for Migratory Birds and State Programs by October 1, 2001.

5. The Service will publish the priority list in the Federal Register.

6. The Service Director will make the final decision on projects to be awarded grants. The Director will award grants only to projects included in the priority list submitted by the IAFWA.

L. Grant Awards and Funding

1. The Service will prepare and sign the formal grant agreements. The formal grant agreements will be forwarded to the grantees for signature and must be signed by a Service representative and an authorized grantee official before they become valid agreements. This process may require up to 60 days to complete. The Service is not responsible for costs incurred prior to the effective date of a signed agreement; therefore, the starting date for all projects should be planned accordingly.

2. The entire amount of funds required for a project must be obligated in the fiscal year the grant is approved (as per guidance in 50 CFR part 80.8).

3. Nonprofit, commercial and institutions of higher education grantees must maintain a financial management system in accordance with the Office of Management and Budget Circular A-110 and 43 CFR part 12, subpart F. State and local governments must maintain a financial management system in accordance with OMB Circular A-102 and 43 CFR part 12, subpart C.

M. Project Administration

Proposals awarded funding will be assigned to a Project Officer. Project Officers provide assistance that includes:

1. Serving as the Service's point of contact after the award agreement is signed;

2. Receiving and approving invoices; and

3. Monitoring project performance and assuring that the award recipient adheres to the award agreement.

Calendar of Events—Appendix A
Target Date | Event
April 16 | Service publishes Federal Register Notice announcing availability of Multistate Conservation Grant Program funds and National Conservation Needs for grant applications.
June 15 | Grant application materials must be received by the IAFWA.
September | The Directors of the State fish and wildlife agencies will approve a priority list of project proposals for funding at the IAFWA's Annual Business Meeting.
October 1 | The IAFWA submits a priority list of projects to the U. S. Fish and Wildlife Services' Assistant Director for Migratory Birds and State Programs.
November 15 | Service publishes Federal Register Notice of priority list of projects submitted by the IAFWA.
January 30 | Service awards grants.

Dated: April 7, 2001.
Marshall P. Jones, Jr.,
Acting Director.

[FR Doc. 01-10145 Filed 4-23-01; 8:45 am]

BILLING CODE 4310-55-P